DEPARTMENT OF ENERGY

Federal Energy Regulatory Commission

Notice of Effectiveness of Exempt Wholesale Generator Status

| Docket No.
Golden Fields Solar I, LLC | EG16-62-000
Live Oak Solar, LLC | EG16-63-000
White Pine Solar, LLC | EG16-64-000
White Oak Solar, LLC | EG16-65-000
Brady Wind, LLC | EG16-66-000
Brady Wind II, LLC | EG16-67-000
Alta Windpower Development, LLC | EG16-68-000
Roswell Solar, LLC | EG16-69-000
Chaves Country Solar, LLC | EG16-70-000
Hidalog Wind Farm LLC | EG16-71-000
Jericho Rise Wind Farm LLC | EG16-72-000
Ninnescah Wind Energy, LLC | EG16-74-000
Antelope Big Sky Ranch LLC | EG16-75-000
Copper Mountain Solar 4, LLC | EG16-76-000
MS Solar 3, LLC | EG16-77-000
MS Solar 2, LLC | EG16-78-000

Take notice that during the month of May 2016, the status of the above-captioned entities as Exempt Wholesale Generators became effective by operation of the Commission's regulations. 18 CFR 366.7(a).

Dated: June 8, 2016.
Nathaniel J. Davis, Sr.,
Deputy Secretary.

[FR Doc. 2016-13981 Filed 6-13-16; 8:45 am]

BILLING CODE 6717-01-P